DEPARTMENT OF AGRICULTURE

Office of the Secretary

Notice of the National Agricultural Research, Extension, Education, and Economics Advisory Board Meeting

AGENCY: Research, Education, and Economics, USDA.

ACTION: Notice of Meeting.

SUMMARY: In accordance with the Federal Advisory Committee Act, 5 U.S.C. App 2, the United States Department of Agriculture announces a meeting of the National Agricultural Research, Extension, Education, and Economics Advisory Board.

DATES: The National Agricultural Research, Extension, Education, and Economics Advisory Board will meet on October 28-30, 2002.

The public may file written comments before or up to two weeks after the meeting with the contact person.

ADDRESSES: On October 28 and 29, 2002, the meeting will take place at the Capital Hilton Hotel, 16th and K Streets, NW., Washington, DC 20036. On October 30, 2002, the meeting will occur at the Economic Research Service, 1800 M Street, NW., Washington, DC 20036.

Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Deborah Hanfman, Executive Director, National Agricultural Research, Extension, Education, and Economics Advisory Board; telephone: (202) 720-3684; fax: (202) 720-6199; or e-mail: dhanfman@reeusda.gov.

SUPPLEMENTARY INFORMATION: On Monday, October 28, 2002, the National Agricultural Research, Extension, Education, and Economics Advisory Board will hold a general meeting at The Capital Hilton Hotel (South American Room A&B). In the morning, from 9:00 until 11:00 a.m., there will be an Orientation Session for newly appointed Board Members. The full Advisory Board Meeting begins at 1:00 p.m., which includes: general business; a special session on public comments to an Interagency Task Force Report on the National Agricultural Library; an update on the Agricultural Research Service's Peer Review Process for National Programs; and food and agricultural research related to the 2002 Farm Bill by the USDA Interagency Task Force, to be presented by Rodney Brown, Deputy Under Secretary for Research, Education, and Economics. A buffet reception with a guest speaker will follow from 7-9 p.m. in the Senate Room of The Capital Hilton Hotel.

On Tuesday, October 29, 2002, the Advisory Board will hold a Focus Session called “Workforce Development for the Food, Agriculture, and Natural Resources System.” The Secretary of Agriculture as well as other officials within and outside of USDA have been invited to speak on issues related to workforce development throughout the pipeline (i.e., youth, RH, FFA, baccalaureate/undergraduate, graduate, and post-doctoral), with the goal of fostering a broad, strong and vital agricultural workforce for the future. By the end of the day, the Advisory Board will have voted nine members into the Board's Executive Committee, including the Chair and Vice Chair.

On Wednesday, October 30, 2002, the Advisory Board meeting will be held at USDA's Economic Research Service (ERS) facility, which is located at 1800 M Street NW., Washington, DC 20036 (Waugh Auditorium on the 3rd floor). ERS will conduct the program and highlight their key activities. At the end of the morning, the Advisory Board will discuss and wrap up any issues related to the 2½-day Board Meeting. The Board will also identify the main topic and date for the next Advisory Board Meeting (to be held in late winter or early spring of 2003).

The Advisory Board Meeting will adjourn by Wednesday, October 30, 2002, at 12 noon. At the end of each day there will be time available for public comments. Also, written comments for the public record will be welcomed before and up to two weeks following the Board meeting (by close of business November 14, 2002). All statements will become a part of the official records of the National Agricultural Research, Extension, Education, and Economics Advisory Board and will be kept on file for public review in the Research, Extension, Education, and Economics Advisory Board Office.

The findings of this Advisory Board Meeting and Focus Session will be based on input from speakers, other stakeholders, the general public, and Board discussions. They will be consolidated into recommendations to the Secretary of Agriculture, and disseminated to the land-grant colleges and universities as well as House and Senate agriculture-related committees/subcommittees of the U.S. Congress.

The consolidated meeting agenda is as follows:

October 28—9 a.m. to 11 a.m.—Orientation for New Board Members (Location: The Capital Hilton Hotel, South American Room A&B.)

October 28—1 p.m. to 5 p.m.—General Meeting, Reports & Updates (Location: The Capital Hilton Hotel, South American Room A&B.)

October 28—7 p.m. to 9 p.m.—Working Reception w/Guest Speaker (Location: The Capital Hilton Hotel, Senate Room.)

October 29—8 a.m. to 5 p.m.—Focus Session on Workforce Development; Election of Executive Committee Members (Location: The Capital Hilton Hotel, South American Room A&B.)

October 29—12 noon to 1 p.m.—Working Lunch w/Speaker (Location: The Capital Hilton Hotel, Foyer 2 and South American Room A&B.) 1 p.m. to 5 p.m.—Resume Focus Session

October 30—8 a.m. to 12 noon—Economic Research Service Program; Board Meeting Wrap Up and Plans for Next Meeting

(Location: Economic Research Service, Waugh Auditorium, 3rd Floor)

Done at Washington, DC this 16 day of October 2002.
Joseph J. Jen,
Under Secretary, Research, Education, and Economics.

[FR Doc. 02-26810 Filed 10-18-02; 8:45 am]

BILLING CODE 3410-22-P